DEPARTMENT OF HEALTH AND HUMAN SERVICES

Centers for Disease Control and Prevention

[60Day-22-22IU; Docket No. CDC-2022-0110]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed information collection, as required by the Paperwork Reduction Act of 1995. This notice invites comment on a proposed information collection project titled Evaluation of the CDC/NIOSH Health Worker Mental Health Campaign. This project will collect data through the administration of online surveys to health workers and their employers prior to campaign launch and 12 months afterward to assess changes in relevant knowledge, attitudes, and beliefs to help inform recommendations.

DATES: CDC must receive written comments on or before November 15, 2022.

ADDRESSES: You may submit comments, identified by Docket No. CDC-2022-0110 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

National Education and Awareness Social Marketing Campaign: Employer Efforts to Support the Mental Health of Health Workers—New—National Institute for Occupational Safety and Health (NIOSH), Centers for Disease Control and Prevention (CDC).

Background and Brief Description

As part of the COVID-19 American Rescue Plan of 2021, in response to a congressional mandate, and on the heels of the passage of the Dr. Lorna Breen Health Care Provider Protection Act, the National Institute for Occupational Safety and Health (NIOSH), within the Centers for Disease Control and Prevention (CDC), is taking an active stance to address mental health concerns among the more than 20 million workers in the nation's healthcare sector. For many years now, health workers have reported feeling undervalued, overworked, and overwhelmed. A 2012 study that surveyed more than 7,000 physicians found that nearly half of them had symptoms of burnout. The COVID-19 pandemic has only exacerbated the strain and pressure facing health workers as they endure unprecedented challenges that make working in this field exponentially harder on their own health and wellbeing. So much so, that the wellbeing of those who dedicate their days and nights to keeping us healthy has surpassed a point of crisis. Depression, anxiety, and PTSD are highly prevalent among health workers across the United States. A systematic review of studies addressing burnout among nurses found that more than a third (34.1%) had emotional exhaustion. A 2020 survey of healthcare workers found that 86% reported experiencing anxiety, and 39% did not feel like they had adequate emotional support.

While many Americans experienced some respite from COVID-19 over the last 24 months, health workers remained on the front lines, in communities and health systems where infections and deaths remained highest and in settings where their charge was to care of the sickest and most immunocompromised Americans. Add to this staffing shortages, a lack of resources and beds across health centers of all sizes, public mistrust in medical professionals in certain areas, and hesitancy of health workers to access support due to licensure and credentialing issues, it is no wonder that our nation's health workers need support, especially from the systems that employ them.

NIOSH, the federal agency tasked with conducting research to contribute to reductions in occupational illnesses, injuries, and hazards, and its contractor, JPA Health, plan to develop, implement, and evaluate a social marketing campaign that aims to raise health worker and healthcare executive awareness of mental health risks, promote help seeking and treatment among health workers experiencing burnout and job-related distress, reduce stigma associated with health workers' mental health help seeking, and establish organizational policies and practices that support worker mental health. For NIOSH, this project requires more than a messaging campaign and aims to marry communications best practices with behavior and systems change strategies to start addressing the working conditions that contribute to job-related distress, structural barriers that prevent health workers from seeking help, and healthcare executives from providing mental health services and supports.

While many individual-level interventions specific to healthcare and healthcare workers exist, very few interventions address the organizational level causes of health worker burnout. It is for this reason that we are proposing a two-year approval to collect data that will allow us to determine whether the social marketing campaign is reaching and engaging executives who will, in turn, support and facilitate modifications to working conditions that contribute to job-related distress; and whether the campaign is associated with increased mental health help seeking and care in those healthcare organizations participating in social marketing efforts.

Outcome data collected for the non-experimental study will include a representative sample of 3,000 health workers and 500 high-level healthcare executives that hail from relevant partner network organizations of the All In network. The survey will be completed on a rolling basis at baseline (pre-launch) and at 12-months post baseline. A new representative sample will be drawn at each data collection period. The health worker survey should take no more than 21 minutes to complete; the executive survey no more than 15 minutes.

Outcome data collected for the quasi-experimental study will include 960 health workers and 60 high-level executives that hail from 12 clinical sites (six intervention sites and six comparison sites) affiliated with our existing partner hospital systems. Unlike the non-experimental study, the same participants will be asked to complete both the baseline and 12-month follow-up surveys (as matched pairs). The health worker survey should take no more than 21 minutes to complete; the executive survey no more than 15 minutes. In addition, up to 18 health workers at each of the six intervention sites will participate in a 60-minute, in-depth interview (nine workers at baseline and another nine at 12 months); and two senior administrators from each of the six intervention sites will participate in a 45-minute-long interview at 12 months.

CDC requests OMB approval for an estimated 1,427 annual burden hours. There is no cost to respondents other than their time to participate.

Estimated Annualized Burden Hours
Type of respondents | Form name | Number of respondents | Number of responses per respondent | Average burden per response (in hours) | Total burden hours
Health Worker | Partner Network Member Baseline Survey (Form 1) | 1,500 | 1 | 15/60 | 375
Health Worker | Partner Network Member Follow-up Survey (Form 2) | 1,500 | 1 | 21/60 | 525
Executive | Partner Network Member Baseline Survey (Form 3) | 250 | 1 | 10/60 | 42
Executive | Partner Network Member Follow-up Survey (Form 4) | 250 | 1 | 15/60 | 125
Health Worker | Quasi-experimental Study Baseline Survey (Form 5) | 480 | 1 | 15/60 | 120
Health Worker | Quasi-Experimental Study Follow-up Survey Comparison (Form 6) | 240 | 1 | 21/60 | 84
Health Worker | Quasi-Experimental Study Follow-up Survey Intervention (Form 7) | 240 | 1 | 21/60 | 84
Executive | Quasi-Experimental Baseline Survey (Form 8) | 30 | 1 | 10/60 | 5
Executive | Quasi-Experimental Study Follow-up Survey Comparison (Form 9) | 15 | 1 | 15/60 | 4
Executive | Quasi-Experimental Study Follow-up Survey Intervention (Form 10) | 15 | 1 | 15/60 | 4
Health Worker | Quasi-Experimental Study Baseline Interview Intervention (Form 11) | 27 | 1 | 60/60 | 27
Health Worker | Quasi Experimental Study Follow-up Interview Intervention (Form 12) | 27 | 1 | 60/60 | 27
Executive | Quasi-Experimental Study Follow-up Interview Intervention (Form 15) | 6 | 1 | 45/60 | 5
Total |  |  |  |  | 1,427

Jeffrey M. Zirger,
Lead, Information Collection Review Office, Office of Scientific Integrity, Office of Science, Centers for Disease Control and Prevention.

[FR Doc. 2022-20121 Filed 9-15-22; 8:45 am]

BILLING CODE 4163-18-P